DEPARTMENT OF COMMERCE

Foreign-Trade Zones Board

[B-91-2012]

Foreign-Trade Zone 22—Chicago, Illinois, Authorization of Production Activity, Abbott Laboratories, Inc., AbbVie, Inc. (Pharmaceutical Production), North Chicago, Illinois, Area

On December 14, 2012, Abbott Laboratories, Inc., and AbbVie, Inc., submitted a notification for expanded production authority within Subzones 22F and 22S, respectively, at sites located in the North Chicago and Lake County, Illinois, area.

The notification was processed in accordance with the regulations of the FTZ Board (15 CFR part 400), including notice in the Federal Register inviting public comment (77 FR 75610, 12-21-2012). The FTZ Board has determined that no further review of the activity is warranted at this time. The production activity described in the notification is authorized, subject to the FTZ Act and the Board's regulations, including Section 400.14.

Dated: April 12, 2013.
Elizabeth Whiteman,
Acting Executive Secretary.

[FR Doc. 2013-09163 Filed 4-17-13; 8:45 am]

BILLING CODE P